SECURITIES AND EXCHANGE COMMISSION

[File No. 500-1]

In the matter of Geographics, Inc. (n/k/a G Printing, Inc.), Window Rock Capital Corp. (n/k/a Window Rock Capital Holdings, Inc.); Order of Suspension of Trading

It appears to the Securities and Exchange Commission that there is a lack of current and accurate information concerning the securities of Geographics, Inc. (n/k/a G Printing, Inc.) because it has not filed any periodic reports since the period ended December 31, 2001.

It appears to the Securities and Exchange Commission that there is a lack of current and accurate information concerning the securities of Window Rock Capital Corp. (n/k/a Window Rock Capital Holdings, Inc.) because it has filed only one periodic report, a Form 10-QSB for the period ended September 30, 2005, in the last three years.

The Commission is of the opinion that the public interest and the protection of investors require a suspension of trading in the securities of the above-listed companies.

Therefore, it is ordered, pursuant to Section 12(k) of the Securities Exchange Act of 1934, that trading in the above-listed companies is suspended for the period from 9:30 a.m. EDT on September 27, 2006, through 11:59 p.m. EDT on October 10, 2006.

By the Commission.
Nancy M. Morris,
Secretary.

[FR Doc. 06-8396 Filed 9-27-06; 11:58 am]

BILLING CODE 8010-01-P